FEDERAL ELECTION COMMISSION

Sunshine Act Meeting

AGENCY: Federal Election Commission.

DATE AND TIME: Tuesday, June 27, 2017 at 2:30 p.m.

PLACE: 999 E Street NW., Washington, DC.

STATUS: This meeting will be closed to the public.

ITEM TO BE DISCUSSED: Compliance matters pursuant to 52 U.S.C. 30109.

* * * * *

PERSON TO CONTACT FOR INFORMATION: Judith Ingram, Press Officer, Telephone: (202) 694-1220.

Dayna C. Brown,
Secretary and Clerk of the Commission.

[FR Doc. 2017-13545 Filed 6-23-17; 4:15 pm]

BILLING CODE 6715-01-P